DEPARTMENT OF AGRICULTURE

Forest Service

Juncrock Timber Sale, Mt. Hood National Forest, Wasco County, OR

AGENCY: Forest Service, USDA.

ACTION: Notice of intent to prepare an environmental impact statement.

SUMMARY: The Forest Service, USDA, will prepare an environmental impact statement (EIS) on a proposal to improve forest health on approximately 550 acres of land, using commercial thinning and individual tree selection treatments, and to reconstruct approximately 1.5 miles, and close approximately 22 miles of roads within the planning area. The proposed action will be in compliance with the 1990 Mt. Hood National Forest Land and Resource Management Plan (Forest Plan) as amended by the Northwest Forest Plan, which establishes the overall goals and guidelines for management of this area. The proposed action is within the White River watershed on the Barlow Ranger District. It is scheduled for implementation in fiscal years 2003 and 2004. The Mt. Hood National Forest invites written comments and suggestions on the scope of the analysis. The agency will give notice of the full environmental analysis and decision-making process so interested and affected people may be able to participate and contribute in the final decision.

DATES: Comments concerning the scope of the analysis should be postmarked by July 31, 2002.

ADDRESSES: Send written comments and suggestions concerning the proposed action in this area to Becky Nelson, NEPA Coordinator, 780 N.E. Court Street, Dufur, Oregon (phone: 541-467-2291). Comments may also be sent by FAX (541-467-2271). Include your name and mailing address with your comments so documents pertaining to this project may be mailed to you.

FOR FURTHER INFORMATION CONTACT: Questions about the proposed action and EIS should be directed to Becky Nelson (address and phone number listed above), or to Mike Redmond, Environmental Coordination, 16400 Champion Way, Sandy, Oregon 97055-7248 (phone: 503-668-1776).

SUPPLEMENTARY INFORMATION: The proposed action would promote forest health by removing trees that are dead, or affected by insects, disease, overstocking, or defects on approximately 550 acres. This treatment would help reach the goal of creating multi-storied, disease resistant, stands in this area.

Existing roads would be extended approximately 0.5 miles where access is needed. A total of 4 roads would be reconstructed for approximately 1 mile. Approximately 9 miles of wildlife closures would occur on 18 roads. Two segments of roads would be decommissioned for about 1 mile. Approximately 12 miles of roads not needed for future management would be closed.

The planning area is located approximately 38 miles south of Hood River, Oregon in portions of Sections 1, 12, & 13, of T.5 S., R.9 E., and portions of Sections 3, 4, 5, 6, 7, 8, 9, 10, 17, & 18, of T.5 S., R. 10 E., Willamette Meridian, Wasco County, Oregon. The planning area does not include any wilderness, RARE II inventoried roadless, or other unroaded areas. It is outside the White River Wild and Scenic River corridor as identified in the “White River Wild and Scenic River Plan.” The planning area is immediately adjacent to the White River late successional reserve (LSR). The planning area is identified as a Tier 2 Key Watershed in the Northwest Forest Plan. The Juncrock Timber Sale is included in the C-1, Timber Emphasis allocation, and the B-2, Scenic Viewshed allocation, of the Forest Plan.

Two preliminary issues have been identified; the impacts from removing mature and over-mature trees, and the impacts from extending existing roads. This analysis will evaluate a range of alternatives for implementation of the project activities including a no-action alternative.

Since the summer issue of 1998, the Juncrock Planning Area has been identified in “Sprouts”, the Mt. Hood National Forest quarterly publication that lists upcoming proposed projects. There have been two field trips with interested public groups. Future scoping will include continued inclusion in “Sprouts”, and continued identification and clarification of issues, identification of key issues to be analyzed in depth, and identification of potential environmental effects of the proposed action and alternatives.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519, 553 (1978). Also, environmental objections that could be raised at the draft EIS stage but are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The draft EIS is planned to be filed with the Environmental Protection Agency (EPA) and available for public review in August 2002. At that time, copies of the draft EIS will be distributed to interested and affected agencies, organizations, Indian Tribes, and members of the public for their review and comment. The EPA will publish a Notice of Availability (NOA) of the draft EIS in Federal Register. The comment period on the draft EIS will be 45 days from the date the NOA appears in the Federal Register.

The Forest Service is seeking information, comments, and assistance from other agencies, organizations, Indian Tribes, and individuals who may be interested in or affected by the proposed action. Your comments are appreciated throughout the analysis process.

Comments received in response to this proposed action, including names and addresses of those who comment, will be considered part of the public record on this proposed action and will be available for public inspection. Comments submitted anonymously will be accepted and considered; however, those who submit anonymous comments will not have standing to appeal the subsequent decision under 36 CFR parts 214 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requestor of the agency's decision regarding the request for confidentiality, and where the request is denied, the agency will return the submission and notify the requestor that the comments may be resubmitted with or without names and address within thirty days.

The final EIS is scheduled to be available by December 2002. In the final EIS, the Forest Service is required to respond to substantive comments received during the comment period for the draft EIS. The responsible official is Gary Larsen, Mt. Hood National Forest Supervisor. The responsible official will decide which, if any, of the alternatives will be implemented. The Juncrock Planning Area decision and rationale will be documented in a Record of Decision, which will be subject to Forest Service Appeal Regulations (36 CFR part 215).

Dated: June 20, 2002.
Kathryn J. Silverman,
Deputy Forest Supervisor.

[FR Doc. 02-16231 Filed 6-26-02; 8:45 am]

BILLING CODE 3410-11-M